DEPARTMENT OF ENERGY

Federal Energy Regulatory Commission

[Project No. 15408-000]

New England Hydropower Company, LLC; Notice of Preliminary Permit Application Accepted for Filing and Soliciting Comments, Motions To Intervene, and Competing Applications

On July 3, 2025, New England Hydropower Company, LLC, filed an application for a preliminary permit, pursuant to section 4(f) of the Federal Power Act (FPA), proposing to study the feasibility of the Black Rock Dam Hydroelectric Project (Black Rock Project) on the Schuylkill River in Chester and Montgomery Counties, near the Borough of Phoenixville and the Village of Mont Clare in Pennsylvania. The sole purpose of a preliminary permit, if issued, is to grant the permit holder priority to file a license application during the permit term. A preliminary permit does not authorize the permit holder to perform any land-disturbing activities or otherwise enter upon lands or waters owned by others without the owners' express permission.

The proposed Black Rock Project would consist of the following: (1) an existing 400-foot-long, 11-foot-high concrete capped timber crib dam; (2) an existing impoundment having a surface area of 184 acres and a storage capacity of 221 acre-feet at an elevation of 89 feet North American Vertical Datum of 1988 (NAVD88); (3) two new 24-foot-wide, 87-foot-long turbine bays each housing two turbine-generator units—each unit with a capacity of 300 kilowatts (kW) for a total capacity of 1.2 megawatts (MW); (4) a new 16-foot-wide, 35-foot-long electrical control building; (5) a new 600-foot-long transmission line; and (6) appurtenant facilities. The proposed project would have an annual generation of 6,000 megawatt-hours.

Applicant Contact: Michael Kerr, New England Hydropower Company, LLC, 100 Cummings Center, Suite 451C, Beverly, MA 01915; phone: (978) 360-2547.

FERC Contact: Monir Chowdhury; phone: (202) 502-6736.

Deadline for filing comments, motions to intervene, competing applications (without notices of intent), or notices of intent to file competing applications: on or before 5:00 p.m. Eastern Time on October 3, 2025. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

More information about this project, including a copy of the application, can be viewed or printed on the “eLibrary” link of the Commission's website at https://elibrary.ferc.gov/eLibrary/search. Enter the docket number (P-15408) in the docket number field to access the document. For assistance, contact FERC Online Support.

Dated: August 4, 2025
Debbie-Anne A. Reese,
Secretary.

[FR Doc. 2025-15008 Filed 8-6-25; 8:45 am]

BILLING CODE 6717-01-P